DEPARTMENT OF LABOR

Office of the Secretary

Submission for OMB Review: Comment Request

December 17, 2007.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: John Kraemer, OMB Desk Officer for the Occupational Safety and Health Administration (OSHA), Office of Management and Budget, Room 10235, Washington, DC 20503, Telephone: 202-395-7316/Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Gear Certification (29 CFR part 1919).

OMB Control Number: 1218-0003.

Agency Form Number: OSHA-70.

Affected Public: Private Sector: Business or other for-profits.

Estimated Number of Respondents: 1,116.

Estimated Total Annual Burden Hours: 190.

Estimated Total Annual Costs Burden: $1,128,000.

Description: The OSHA-70 Form is used by applicants seeking accreditation from OSHA to be able to test or examine certain equipment and material handling devices, as required under the maritime regulations, 29 CFR part 1917 (Marine Terminals), and 29 CFR part 1918 (Longshoring). The OSHA-70 Form provides an easy means for companies to apply for accreditation. For additional information, see related notice published on September 17, 2007 at 72 FR 52912.

Agency: Occupational Safety and Health Administration.

Type of Review: Extension without change of a previously approved collection.

Title of Collection: Powered Platforms for Building Maintenance (29 CFR § 1910.66).

OMB Control Number: 1218-0121.

Agency Form Number: None.

Affected Public: Private Sector: Business or other for-profits.

Estimated Number of Respondents: 900.

Estimated Total Annual Burden Hours: 135,656.

Estimated Total Annual Costs Burden: $0.

Description: The recordkeeping requirements of the Powered Platforms for Building Maintenance Standard (29 CFR 1910.66) include written emergency action plans and work plans for training; affixing load rating plates to each suspended unit, labeling emergency electric operating devices with instructions for their use, and attaching a tag to one of the fastenings holding a suspension wire rope; the inspection and testing of, and written certification for, building-support structures, components of powered platforms, powered platform facilities, and suspension wire ropes; and training employees and the preparation and maintenance of written training certification records. OSHA requires this information to be collected by employers in order to assure that employees who operate powered platforms receive uniform and comprehensive instruction and information in the operation, safe use, and inspection of this equipment. For additional information, see related notice published on October 5, 2007 at 72 FR 57072.

Agency: Occupational Safety and Health Administration.

Type of Review: Extension without change of a previously approved collection.

Title of Collection: Standard on Manlifts (29 CFR 1910.68(e)).

OMB Control Number: 1218-0226.

Agency Form Number: None.

Affected Public: Private Sector: Business or other for-profits.

Estimated Number of Respondents: 3,000.

Estimated Total Annual Burden Hours: 37,801.

Estimated Total Annual Costs Burden: $0.

Description: 29 CFR 1910.68(e) specifies requirements for inspecting manlifts; and developing, maintaining, and disclosing inspection records. OSHA requires this information to be collected by employers for determining the cumulative maintenance status of a manlift and or taking the necessary preventive actions to ensure employee safety. For additional information, see related notice published on September 6, 2007 at 72 FR 51253.

Darrin A. King,
Acting Departmental Clearance Officer.

[FR Doc. E7-24777 Filed 12-20-07; 8:45 am]

BILLING CODE 4510-26-P